DEPARTMENT OF TRANSPORTATION

Federal Aviation Administration

Aviation Rulemaking Advisory Committee; Transport Airplane and Engine Issues—New Task

AGENCY: Federal Aviation Administration (FAA), DOT.

ACTION: Notice of new task assignment for the Aviation Rulemaking Advisory Committee (ARAC).

SUMMARY: The FAA assigned the Aviation Rulemaking Advisory Committee a new task to study the effects of multiple complex structural supplemental type certification (STC) modifications installed on transport category airplanes. The ARAC will develop a report with recommendations for a long-term plan addressing the effects of multiple complex STC modifications on the structural integrity and continued safe operations of transport category airplanes. This notice is to inform the public of this ARAC activity.

FOR FURTHER INFORMATION CONTACT: John McGraw, 1601 Lind Ave., Renton, Washington 98055-4056, 425-227-1171, john.mcgraw@faa.gov.

SUPPLEMENTARY INFORMATION:

Background

The FAa established an Aviation Rulemaking Advisory Committee to provide advice and recommendations to the FAA Administrator on the FAA's rulemaking activities with respect to aviation-related issues.

The Task

Study the effects of multiple complex structural STC modifications installed on transport category airplanes. Develop a report with recommendations for a long term plan addressing the effects of multiple complex STC modifications on the structural integrity and continued safe operation of transport category airplanes, and the ability of the operators to accomplish mandatory FAA aging fleet programs.

The report should identify the types of structural modifications considered to be complex STC modifications, and should propose recommended actions to be taken by the FAA to address the effects complex structural STC modifications have on the structural integrity and continued safe operation of modified airplanes.

The report and recommendations should contain the following:

1. A description of FAA and industry actions necessary to identify the interaction effects of multiple complex STC modifications,

2. A description of FAA and industry actions that will address the effects that complex modifications have on aging aircraft issues, and

3. A description of FAA and industry actions necessary to address the effects that complex modifications have on FAA mandated airworthiness actions (i.e., airworthiness directives, aging aircraft programs).

Schedule: The report should be completed no later than September 28, 2002.

ARAC Acceptance of Tasks

ARAC accepted the task and assigned the task to the Airworthiness Assurance Working Group, Transport Airplane and Engine Issues. The working group will serve as staff to ARAC and assist in the analysis of the assigned task. ARAC must review and approve the working group's recommendations. If ARAC accepts the working group's recommendations, it will forward them to the FAA.

Working Group Activity

the Airworthiness Assurance Working Group is expected to comply with the procedures adopted by ARAC. As part of the procedures, the working group is expected to:

1. Recommend a work plan for completion of the task, including the rationale supporting such a plan for consideration at the next meeting of the ARAC on transport airplane and engine issues held following publication of this notice.

2. Give a detailed conceptual presentation of the proposed recommendations prior to proceeding with the work stated in item 3 below.

3. Draft the appropriate documents and required analyses and/or any other related materials or documents the working group determines to be appropriate.

4. Provide a status report at each meeting of the ARAC held to consider transport airplane and engine issues.

Participation in the Working Group

The Airworthiness Assurance Working Group will be composed of technical experts having an interest in the assigned task. A working group member need not be a representative or a member of the full committee.

An individual who has expertise in the subject matter and wishes to become a member of the working group should write to the person listed under the caption FOR FURTHER INFORMATION CONTACT expressing that desire, describing his or her interest in the task, and stating the expertise he or she would bring to the working group. All requests to participate must be received no later than April 30, 2001. All requests will be reviewed by the assistant chair, the assistant executive director, and the working group chair. Individuals will be advised whether or not the request can be accommodated.

Individuals chosen for membership on the working group will be expected to represent their aviation community segment and actively participate in the working group (e.g., attend all meetings, provide written comments when requested to do so, etc.). They also will be expected to devote the resources necessary to support the working group in meeting any assigned deadlines. Members are expected to keep their management chain and those they may represent advised of working group activities and decisions to ensure that the agreed technical solutions do not conflict with their sponsoring organization's position when the subject being negotiated is presented to ARAC for approval.

Once the working group has begun deliberations, members will not be added or substituted without the approval of the assistant chair, the assistant executive director, and the working group chair.

The Secretary of Transportation determined that the formation and use of the ARAC is necessary and in the public interest in connection with the performance of duties imposed on the FAA by law.

Meetings of the ARAC will be open to the public. Meetings of the Airworthiness Assurance Working Group will not be open to the public, except to the extent that individuals with an interest and expertise are selected to participate. The FAA will make no public announcement of working group meetings.

Issued in Washington, DC, on March 14, 2001.
Anthony F. Fazio,
Executive Director, Aviation Rulemaking Advisory Committee.

[FR Doc. 01-7068 Filed 3-21-01; 8:45 am]

BILLING CODE 4910-13-M